ENVIRONMENTAL PROTECTION AGENCY

[ER-FRL-6644-7]

Environmental Impact Statements; Notice of Availability

Responsible Agency: Office of Federal Activities, General Information (202) 564-7167 or http://www.epa.gov/compliance/nepa.

Weekly receipt of Environmental Impact Statements

Filed October 13, 2003 Through October 17, 2003

Pursuant to 40 CFR 1506.9.

EIS No. 030477, Final EIS, COE, MS, Royal D'Iberville Hotel and Casino Development Project, Construction and Operation, U.S. Army COE Section 10 and 404 and NPDES Permits Issuance, City of D'Iberville on the Back Bay, Mississippi Gulf Coast, Harrison County, MS, Wait Period Ends: November 24, 2003, Contact: Susan Ivester Rees, Ph.D (251) 694-4141.

EIS No. 030478, Final EIS, BOP, CA, Lompoc United States Penitentiary (UPS) Construction and Operation of a New High-Security Facility and Ancillary Structures on One of Three Sites located in the City of Lopmoc, Funding, Santa Barbara County, CA, Wait Period Ends: November 24, 2003, Contact: David J. Dorworth (202) 514-6470.

EIS No. 030479, Final EIS, AFS, CA, South Tahoe Public Utility District (STPUD) B-Line Phase III Wastewater Export Pipeline Replacement Project, Luther Pass Pump Station to U.S. Forest Service Luther Pass Overflow Campground Access Road, Special Use Permit, U.S. Army COE Section 404 and US Fish and Wildlife Service Permits Issuance and EPA Grant, El Dorado and Alpine Counties, CA, Wait Period Ends: November 24, 2003, Contact: Gary Weigel (530) 543-2665.

EIS No. 030480, Draft EIS, AFS, OR, Easy Fire Recovery Project and Proposed Non-significant Forest Plan Amendments, Timber Salvage, Future Fuel Reduction, Road Reconstruction and Maintenance, Road Closure, Tree Planting and Two Non-significant Forest Plan Amendments, Implementation, Malheur National Forest, Prairie City Ranger District, Grant County, OR, Comment Period Ends: December 8, 2003, Contact: Brooks Smith (541) 820-3800.

This document is available on the Internet at: http://www.fs.fed.us/R6/malheur.

EIS No. 030481, Final Supplemental, AFS, CA, WA, OR, Northern Spotted Owl Management Plan in the National Forests, Implementation, CA, OR and WA, Wait Period Ends: November 24, 2003, Contact: Joyce Casey (503) 326-2430.

The U.S. Department of Agriculture's Forest Service and U.S. Department of the Interior's Bureau of Land Management are Joint Lead Agencies for the above project.

EIS No. 030482, Draft EIS, AFS, MT, Basin Creek and Blacktail Hazardous Watershed Fuels Reduction Project, Implementation, Highland Mountains, Butte Ranger District, Beaverhead-Deerlodge National Forest, Butte-Silver Bow County, MT, Comment Period Ends: December 8, 2003, Contact: Amy Waring (406) 683-3948.

EIS No. 030483, Final EIS, FTA, CO, West Corridor Project, Transportation Improvements in the Cities of Denver, Lakewood and Golden, Light Rail Transit (LRT), Jefferson County, CO, Wait Period Ends: November 24, 2003, Contact: David Hollis (303) 638-9000.

EIS No. 030484, Draft EIS, NOA, WA, CA, OR, 2004 Pacific Coast Groundfish Fishery Management Fishery, Proposed Acceptable Biological Catch and Optimum Yield Specifications and Management Measures, Magnuson-Stevens Act, Exclusive Economic Zone, WA, OR and CA, Comment Period Ends: December 8, 2003, Contact: D. Robert Lohn (206) 526-6150.

Amended Notices

EIS No. 030407, Draft EIS, EPA, CT, NY, Central and Western Long Island Sound Dredged Material Disposal Sites, Designation, CT and NY, Comment Period Ends: November 17, 2003, Contact: Ann Rodney (617) 918-1538.

Revision of FR Notice Published on 9/12/03: CEQ Comment Period Ending 10/27/2003 has been extended to 11/27/2003.

EIS No. 030446, Draft Supplemental, FTA, OR, WA, OR, South Corridor Downtown Amendment Project, Evaluation of Downtown Portland Mall Light Rail Transit (LRT) Alignment to the I-205 Light Rail Transit Alternative, Funding, Clackamas and Multnomah Counties, OR, Comment Period Ends: November 17, 2003, Contact: Sharon Kelly (503) 797-1756.

Revision of FR Notice Published on 10/3/2003: Correction to the STATE from NC to OR.

EIS No. 030453, Draft EIS, BLM, CA, Desert Southwest Transmission Line Project, New Substation/Switching Station, Construction, Operation and Maintenance, Right-of-Way Grant and US Army COE Section 10 and 404 Permits Issuance, North Palm Springs and Blythe, CA, Comment Period Ends: November 24, 2003, Contact: John Kalish (760) 251-4849.

Revision of FR Notice Published on 10/10/2003: Correction to the Internet Address should be: http://www.ca.blm.gov/palmsprings.

Dated: October 21, 2003.
Ken Mittelholtz,
Environmental Protection Specialist, Office of Federal Activities.

[FR Doc. 03-26933 Filed 10-23-03; 8:45 am]

BILLING CODE 6560-50-P